DEPARTMENT OF HOMELAND SECURITY

Coast Guard

33 CFR Part 117

[CGD08-04-016]

RIN 1625-AA09

Drawbridge Operating Regulation; Illinois Waterway, Joliet, IL

AGENCY: Coast Guard, DHS.

ACTION: Notice of temporary deviation from regulations.

SUMMARY: The Commander, Eighth Coast Guard District has issued a temporary deviation from the regulation governing the operation of the Jefferson Street Bridge, mile 287.9, and Cass Street Bridge, mile 288.1, across the Illinois Waterway at Joliet, Illinois. This deviation allows the drawbridges to remain closed to navigation for three hours from 8:30 a.m. to 11:30 a.m. on May 15, 2004 Central Standard Time. The deviation is necessary to facilitate maintenance work on the bridges that is essential to the continued safe operation of the drawbridges.

DATES: This temporary deviation is effective from 8:30 a.m. to 11:30 a.m. on May 15, 2004.

ADDRESSES: Materials referred to in this rule are available for inspection or copying at the office of the Eighth Coast Guard District, Bridge Administration Branch, Commander (obr), Eighth Coast Guard District, 1222 Spruce Street, St. Louis, MO 63103-2832, between 8 a.m. and 4 p.m., Monday through Friday, except federal holidays. The Bridge Administration Branch maintains the public docket for this temporary deviation.

FOR FURTHER INFORMATION CONTACT: Roger K. Wiebusch, Bridge Administrator, Commander (obr), Eighth Coast Guard District, 1222 Spruce Street, St. Louis, MO 63103-2832, (314) 539-3900, extension 2378.

SUPPLEMENTARY INFORMATION: The Illinois Department of Transportation requested a temporary deviation on March 25, 2004 for the operation of the drawbridges to allow the bridge owner time for preventative maintenance. Presently, the draws open on signal for passage of river traffic. This deviation allows the bridges to remain closed to navigation for three hours from 8:30 a.m. to 11:30 a.m. on May 15, 2004. Vessels not exceeding the vertical clearance of the drawbridge may pass under the drawbridges during the maintenance. There are no alternate routes for vessels transiting through mile 287.9 and mile 288.1 on the Illinois Waterway. The drawbridges will be able to open for emergencies during the three-hour maintenance period.

The Jefferson Street Bridge, mile 287.9 and Cass Street Bridge, mile 288.1 provide a vertical clearance of 16.6 feet above normal pool in the closed to navigation position. Navigation on the waterway consists primarily of commercial tows and recreational watercraft. In order to inspect the entire steel deck for fractures, the bridges must be kept inoperative and in the closed to navigation position. This deviation has been coordinated with waterway users. No objections were received.

In accordance with 33 CFR 117.35(c), this work will be performed with all due speed in order to return the bridges to normal operation as soon as possible. This deviation from the operating regulations is authorized under 33 CFR 117.35.

Dated: April 16, 2004.
Roger K. Wiebusch,
Bridge Administrator.

[FR Doc. 04-9483 Filed 4-26-04; 8:45 am]

BILLING CODE 4910-15-P